ENVIRONMENTAL PROTECTION AGENCY

[OAR-2003-0053; FRL-7789-4]

Agency Information Collection Activities; Submission to OMB for Review and Approval; Comment Request; Clean Air Interstate Rule

AGENCY: Environmental Protection Agency (EPA).

ACTION: Notice.

SUMMARY: In compliance with the Paperwork Reduction Act (44 U.S.C. 3501 et seq.), this document announces that EPA has submitted a proposed Information Collection Request (ICR) (EPA ICR number 2152.01) to the Office of Management and Budget (OMB) for review and approval. This proposed ICR is associated with EPA's proposed Clean Air Interstate Rule (CAIR). The proposed CAIR is articulated in two published notices: a notice of proposed rule (NPR) (69 FR 4566, January 30, 2004) and supplemental notice of proposed rule (SNPR) (69 FR 32684, June 10, 2004). The NPR and SNPR require certain States to submit State implementation plan (SIP) measures to ensure that emissions reductions are achieved as needed to mitigate transport of fine particulate matter (PM2.5) and/or ozone pollution across State boundaries. This ICR describes the nature of the information collection and its estimated burden and cost associated with this proposed rule. In cases where information is already collected by a related program, this ICR takes into account only the additional burden. This applies in instances where States are also subject to requirements of the Consolidated Emissions Reporting Rule (EPA ICR number 0916.10; OMB control number 2060-0088) or where sources and States affected by the Acid Rain Program (EPA ICR number 1633.13; OMB control number 2060-0258) or NOX SIP Call (EPA ICR number 1857.03; OMB number 2060-0445) requirements. EPA is soliciting comments on specific aspects of the proposed information collection as described below.

DATES: Comments must be submitted on or before September 14, 2004.

ADDRESSES: Submit your comments, identified by Docket ID No. OAR-2003-0053, by one of the following methods:

• Federal eRulemaking Portal: http://www.regulations.gov. Follow the on-line instructions for submitting comments.

• Agency Web site: http://www.epa.gov/edocket. EDOCKET, EPA's electronic public docket and comment system, is EPA's preferred method for receiving comments. Follow the on-line instructions for submitting comments.

• E-mail: A-and-R-Docket@epa.gov.

• Mail: Air Docket, Clean Air Interstate Rule, Environmental Protection Agency, Mailcode: 6102T, 1200 Pennsylvania Ave., NW, Washington, DC 20460.

• Hand Delivery: EPA Docket Center, 1301 Constitution Avenue, NW, Room B108, Washington, DC. Such deliveries are only accepted during the Docket's normal hours of operation, and special arrangements should be made for deliveries of boxed information.

Instructions: (1) To provide comments to EPA, direct your comments to Docket ID No. OAR-2003-0053. The EPA's policy is that all comments received will be included in the public docket without change and may be made available online at http://www.epa.gov/edocket, including any personal information provided, unless the comment includes information claimed to be Confidential Business Information (CBI) or other information whose disclosure is restricted by statute. Do not submit information that you consider to be CBI or otherwise protected through EDOCKET, regulations.gov, or e-mail. The EPA EDOCKET and the Federal regulations.gov Web sites are “anonymous access” systems, which means EPA will not know your identity or contact information unless you provide it in the body of your comment. If you send an e-mail comment directly to EPA without going through EDOCKET or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit EDOCKET on-line or see the Federal Register of May 31, 2002 (67 FR 38102). For additional instructions on submitting comments, go to Unit I of the SUPPLEMENTARY INFORMATION section of this document.

Docket: All documents in the docket are listed in the EDOCKET index at http://www.epa.gov/edocket. Although listed in the index, some information is not publicly available, i.e., CBI or other information whose disclosure is restricted by statute. Certain other material, such as copyrighted material, is not placed on the Internet and will be publicly available only in hard copy form. Publicly available docket materials are available either electronically in EDOCKET or in hard copy at the EPA Docket Center, EPA West, Room B102, 1301 Constitution Avenue, NW, Washington, DC. The Public Reading Room is open from 8:30 a.m. to 4:30 p.m., Monday through Friday, excluding legal holidays. The telephone number for the Public Reading Room is (202) 566-1744, and the telephone number for the Air Docket is (202) 566-1742.

(2) To provide comments to OMB, mail or hand deliver comments to: Office of Information and Regulatory Affairs, Office of Management and Budget (OMB), Attention: Desk Officer for EPA, 725 17th Street, NW., Washington, DC 20503.

FOR FURTHER INFORMATION CONTACT: For information concerning emissions reporting contact William B. Kuykendal, U.S. Environmental Protection Agency, 109 TW Alexander Dr., Mail Code D-205-01, Research Triangle Park, NC 27711; telephone number: 919-541-5372; fax number: 919-541-0684; e-mail at www.kuykendal.bill@epa.gov. For information concerning emission trading information requirements contact Beth A. Murray; U.S. Environmental Protection Agency, Clean Air Markets Division, Mail Code 6204J, 1200 Pennsylvania Ave. NW., Washington, DC 20460; telephone 202-343-9115; fax 202-343-2359; e-mail at murray.beth@epa.gov.

SUPPLEMENTARY INFORMATION: The EPA has established a public docket for this ICR under Docket ID No. OAR-2003-0053, that is available for public viewing at the Air and Radiation Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Air and Radiation Docket is (202) 566-1742. An electronic version of the public docket is available through EPA Dockets (EDOCKET) at http://www.epa.gov/edocket. Use EDOCKET to submit or view public comments, to access the index listing of the contents of the public docket, and to access those documents in the public docket that are available electronically. Once in the system, select “search,” then key in the docket ID number identified above. In addition, this information is available at the EPA's CAIR Web site, http://www.epa.gov/interstateairquality.

Any comments related to this ICR should be submitted to EPA and OMB within 60 days of this notice. EPA's policy is that public comments, whether submitted electronically or in paper, will be made available for public viewing in EDOCKET as EPA receives them and without change, unless the comment contains copyrighted material, Confidential Business Information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET.

Title: Clean Air Interstate Rule.

Abstract: In a January 30, 2004 notice (69 FR 4566-4650), EPA proposed to find that emission of sulfur dioxide (SO2) and oxides of nitrogen (NOX) from 28 States and the District of Columbia and emissions of NOX from 25 States and the District of Columbia, violate provisions of Clean Air Act (CAA) section 110(a)(2)(D) by contributing significantly nonattainment of the annual PM2.5 and the 8-hour ozone national ambient air quality standards (NAAQS).

As a result, EPA proposed to require SIP revisions containing measures to ensure that necessary emissions reductions are achieved. The EPA proposed SIP submittal deadlines and other aspects of the SIP submittals. Further, the January 2004 proposal identified the appropriate amount of NOX and SO2 emissions that each of the affected jurisdictions would be required to eliminate. The January 2004 proposal explained that the affected States could choose to control any sources they wish to achieve those reductions and generally discussed the methodologies for determining the appropriate amount of emissions reductions on a State-by-State basis. The January 2004 proposal further explained that the emissions reductions may be achieved most cost effectively by controls on electric generating units (EGUs), and in particular, through region wide cap-and-trade programs for EGUs. The January 2004 proposal indicated the methods for determining the allowable amounts of SO2 and NOX emissions from EGUs and offered a sketch of the EPA administered model cap-and-trade programs that States may choose to adopt.

On June 10, 2004, EPA published a Supplemental Proposal for the Rule to Reduce Interstate Transport of Fine Particulate Matter and Ozone (69 FR 32684-32772). The supplemental proposal fills certain gaps in the January 2004 proposal and revises it or its supporting information in specific ways.

The purpose of this ICR is to provide the anticipated monitoring, reporting, and recordkeeping burden estimates and associated costs for States, local governments, and sources that are expected to result from the proposed CAIR, as amended by the supplemental proposal.

The recordkeeping and reporting burden to sources resulting from States choosing to participate in a regional cap and trade program is estimated to be approximately $67.9 million annually. This estimate includes the annualized cost of installing and operating appropriate SO2 and NOX emissions monitoring equipment to measure and report the total emissions of these pollutants from large EGUs (serving generators greater than 25 megawatt electrical). The burden to State and local air agencies includes any necessary revisions to SIPs, monitoring certification, and audit responsibilities.

Burden Statement: The ICR estimates the annual State and Local burden for the proposed CAIR to average 5,351 hours per year. Burden means the total time, effort, or financial resources expended by persons to generate, maintain, retain, disclose or provide information to, or for, a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: State and local entities affected by this ICR include State and local air quality agencies. Additionally, States are expected to achieve the reductions required by the proposed rule from large EGUs, so the burden to those entities is estimated in this ICR.

Estimated Number of Respondents: Respondents are expected to include 1,750 businesses and 104 State or local agencies.

Frequency of Response: The frequency of response will vary by task.

Estimated Total Annual Hour Burden: The total annual reporting and recordkeeping hour burden for all respondents is estimated to be approximately 607,978 hours per year.

Estimated Total Annual Cost: Total annual costs of information collection are estimated to be approximately $68.1 million for CAIR. This estimate includes $20.8 million annualized capital or start up costs.

Dated: July 13, 2004.
Jeffrey S. Clark,
Acting Director, Office of Air Quality Planning and Standards.

[FR Doc. 04-16330 Filed 7-15-04; 8:45 am]

BILLING CODE 6560-50-P